DEPARTMENT OF COMMERCE

International Trade Administration

[C-475-819]

Certain Pasta From Italy: Extension of Time Limit for the Final Results of the Countervailing Duty Administrative Review

AGENCY: Import Administration, International Trade Administration, Department of Commerce.

FOR FURTHER INFORMATION CONTACT: Chris Siepmann at (202) 482-7958 or Yasmin Nair at (202) 482-3813; AD/CVD Operations, Office 1, Import Administration, International Trade Administration, U.S. Department of Commerce, 14th Street and Constitution Avenue, NW., Washington, DC 20230.

SUPPLEMENTARY INFORMATION:

Background

On August 8, 2011, the Department of Commerce (“Department”) published the preliminary results of the administrative review of the countervailing duty order on certain pasta from Italy, covering the period January 1, 2009, through December 31, 2009. See Certain Pasta from Italy: Preliminary Results of the 14th (2009) Countervailing Duty Administrative Review, 76 FR 48130 (August 8, 2011) (“Preliminary Results”). In the Preliminary Results we stated that we would issue our final results for the countervailing duty administrative review no later than 120 days after the date of publication of the Preliminary Results. The final results are currently due December 6, 2011.

Statutory Time Limits

Section 751(a)(3)(A) of the Tariff Act of 1930, as amended (“the Act”), requires the Department to issue the final results of an administrative review within 120 days of the publication of the Preliminary Results. If it is not practicable to complete the review within the time period, section 751(a)(3)(A) of the Act allows the Department to extend this deadline to a maximum of 180 days.

Extension of Time Limits for Final Results

The Department has determined that completion of the final results of this review within the original time period (i.e., by December 6, 2011) is not practicable. In the Preliminary Results, the Department investigated several new subsidy programs, and the Department requires more time to consider the comments of interested parties concerning the countervailability of these programs. Therefore, the Department is extending the time limit for completion of the final results to not later than February 4, 2012, which is 180 days from the date of publication of the Preliminary Results, in accordance with section 751(a)(3)(A) of the Act. However, February 4, 2012, is a Saturday, and, when a deadline falls on a weekend or federal holiday, the appropriate deadline is the next business day. See Notice of Clarification: Application of “Next Business Day” Rule for Administrative Determination Deadlines Pursuant to the Tariff Act of 1930, As Amended, 70 FR 24533 (May 10, 2005). Accordingly, the final results of review will be due no later than February 6, 2012.

We are issuing and publishing this notice in accordance with sections 751(a)(3)(A) and 777(i)(1) of the Act.

Dated: October 14, 2011.
Christian Marsh,
Deputy Assistant Secretary for Antidumping and Countervailing Duty Operations.

[FR Doc. 2011-27207 Filed 10-19-11; 8:45 am]

BILLING CODE 3510-DS-P